DEPARTMENT OF ENERGY

Federal Energy Regulatory Commission

[Docket No. RP03-315-000]

Kern River Gas Transmission Company; Notice of Proposed Changes in FERC Gas Tariff

April 1, 2003.

Take notice that on March 28, 2003, Kern River Gas Transmission Company (Kern River) tendered for filing as part of its FERC Gas Tariff, Second Revised Volume No. 1, the following tariff sheets, to be effective May 1, 2003:

Third Revised Sheet No. 178

Third Revised Sheet No. 179

First Revised Sheet No. 179-A

Alternate Third Revised Sheet No. 178

Alternate Third Revised Sheet No. 179

Kern River states that the purpose of this filing is: (1) To expand the number of existing supply and market area pools reflected in Kern River's FERC Gas Tariff so that receipt points that are not currently included in a supply area pool can be added to an appropriate supply area pool and delivery points that are not currently included in a market area pool can be added to an appropriate market area pool; or (2) in the alternative, to add two receipt points to existing supply area pools and six delivery points to existing market area pools.

Kern River states that it has served a copy of this filing upon its customers and interested state regulatory commissions.

Any person desiring to be heard or to protest said filing should file a motion to intervene or a protest with the Federal Energy Regulatory Commission, 888 First Street, NE., Washington, DC 20426, in accordance with sections 385.314 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 9, 2003.

Magalie R. Salas,
Secretary.

[FR Doc. 03-8468 Filed 4-7-03; 8:45 am]

BILLING CODE 6717-01-P